DEPARTMENT OF DEFENSE

Department of the Army, Corps of Engineers

[COE-2020-0003]

Guidance To Establish Policies for the Agency Levee Safety Program Entitled Engineer Circular 1165-2-218

AGENCY: U.S. Army Corps of Engineers, Department of Defense.

ACTION: Notice; extension of public comment period.

SUMMARY: In the February 25, 2020 issue of the Federal Register, the U.S. Army Corps of Engineers (USACE) issued a notice announcing the availability of its draft agency guidance entitled, Engineer Circular 1165-2-218: U.S. Army Corps of Engineers Levee Safety Program, for comment. In that notice, USACE stated that written comments must be submitted on or before April 27, 2020. It was the intent of USACE to host five in-person public sessions to provide additional opportunities to exchange information related to the draft Engineer Circular prior to the conclusion of the open comment period. Due to ongoing concerns related to coronavirus disease 2019 (COVID-19), USACE has postponed the in-person public sessions until such a time they can be safely rescheduled or an alternative plan for virtual information exchange can be implemented. USACE recognizes that feedback from the public and our partners is key to the success of the USACE Levee Safety Program, and provides opportunity to build trusting and transparent relationships. As a result, USACE is extending the public comment period on the draft Engineer Circular until July 27, 2020. The draft Engineer Circular is available for review on the USACE Levee Safety Program website (https://www.usace.army.mil/Missions/Civil-Works/Levee-Safety-Program/) and at (http://www.regulations.gov) reference docket number COE-2020-0003.

DATES: USACE is extending the comment period for the notice published in the February 25, 2020, issue of the Federal Register (85 FR 10658) to July 27, 2020.

ADDRESSES: USACE, 441 G Street NW, Washington, DC 20314-1000.

FOR FURTHER INFORMATION CONTACT: Ms. Tammy Conforti at 202-761-4649, email EC218@usace.army.mil (mailto: EC218@usace.army.mil) or visit http://www.usace.army.mil/Missions/Civil-Works/Levee-Safety-Program/ (http://www.usace.army.mil/Missions/Civil-Works/Levee-Safety-Program/).

SUPPLEMENTARY INFORMATION: None.

Dated: March 20, 2020.
R.D. James,
Assistant Secretary of the Army, (Civil Works).

[FR Doc. 2020-06364 Filed 3-25-20; 8:45 am]

BILLING CODE 3720-58-P